DEPARTMENT OF COMMERCE

International Trade Administration

Notice of Imminent Establishment of the United States-Mexico Energy Business Council and Solicitation of Nominations for U.S. Private Sector Members

AGENCY: International Trade Administration, U.S. Department of Commerce.

ACTION: Notice of Imminent Establishment of the United States-Mexico Energy Business Council and Solicitation of Nominations for U.S. Private Sector Members.

SUMMARY: The U.S. Department of Commerce announces the imminent establishment of the United States-Mexico Energy Business Council (the “Council”) with U.S. Department of Energy, the Ministry of Economy of the United Mexican States, and the Ministry of Energy of the United Mexican States, and is soliciting nominations for U.S. private sector members. The Council is expected to have as its objective bringing together representatives of the respective energy industries of the United States and Mexico to discuss issues of mutual interest, particularly ways to strengthen the economic and commercial ties between energy industries in the two countries, and communicating actionable, non-binding recommendations to the U.S. and Mexican governments.

DATES: All nominations must be received by the Office of North America by 5:00 p.m. Eastern Standard Time (EST) on April 18, 2016.

ADDRESSES: Please submit nominations to Patrick Krissek, International Trade Specialist, Office of North America, U.S. Department of Commerce either by email at Patrick.Krissek@trade.gov or by mail to U.S. Department of Commerce, 1401 Constitution Avenue NW., Room 30014, Washington, DC 20230.

FOR FURTHER INFORMATION CONTACT: Patrick Krissek, Office of North America, U.S. Department of Commerce, telephone: (202) 482-4231, email Patrick.Krissek@trade.gov.

SUPPLEMENTARY INFORMATION: The U.S. Department of Commerce, the U.S. Department of Energy, the Ministry of Economy of the United Mexican States, and the Ministry of Energy of the United Mexican States anticipate formally establishing the Council following the U.S.-Mexico High-Level Economic Dialogue meeting in late February 2016. Please consult www.trade.gov/hled for more information, where the Terms of Reference of the Council will be published following its formal establishment. The expected objective of the Council is to bring together representatives of the respective energy industries of the United States and Mexico to discuss issues of mutual interest, particularly ways to strengthen the economic and commercial ties between energy industries in the two countries, and communicating actionable, non-binding recommendations to the U.S. and Mexican Governments.

The Council is expected to consist of the U.S. Department of Commerce, represented by the Under Secretary of Commerce for International Trade, and the U.S. Department of Energy, represented by the Assistant Secretary of Energy for International Affairs, for the United States Government (the “U.S. Participants”); the Ministry of Energy of the United Mexican States, represented by General Director of Investor Relations and Promotion, and the Ministry of Economy of the United Mexican States, represented by the Under Secretary of Foreign Trade, for the Government of Mexico (the “Mexican Participants”); and a Committee comprised of private sector members from both countries. The Committee would be composed of a U.S. Section and a Mexican Section, each consisting of approximately ten members from the private sector appointed by their respective Government, representing the views and interests of the private sector business community, including their respective energy industry sub-sector and the energy industry more broadly. Each Government would seek to appoint at least one representative from each of the oil and gas, renewable energy, electricity, nuclear energy, and energy efficiency industry sub-sectors. Members of the Sections would freely exchange information, best industry practices, and points of view among themselves and provide actionable, non-binding recommendations jointly addressed to both Governments that reflect their views, needs, and concerns regarding creating an environment in which their respective energy industries can participate, thrive, and enhance bilateral commercial ties that could form the basis for expanded trade and investment between the United States and Mexico.

Nominations are currently being sought for membership on the U.S. Section of the Committee. Each candidate must be a senior representatives (e.g., Chief Executive Officer, Vice President, Regional Manager, Senior Director, etc.) of a U.S.-owned or controlled individual company, trade association, or private sector organization that is incorporated in and has its main headquarters in the United States and whose activities focus on the manufacture, production, commercialization and/or trade of goods and services for the energy industries in the United States and Mexico. Each candidate must also be a U.S. citizen or otherwise legally authorized to work in the United States and able to travel to Mexico or locations in the United States to attend official Council meetings, as well as independent U.S. Section and Committee meetings. In addition, the candidate may not be a registered foreign agent under the Foreign Agents Registration Act of 1938, as amended.

Nominations for membership in the U.S. Section of eligible individuals will be evaluated on the following criteria:

—A demonstrated commitment by the entity to be represented to the Mexican market, including as applicable either through exports or investment.

—A demonstrated strong interest in Mexico and its economic development.

—The ability to offer a broad perspective and business experience specific to the energy industry to the discussions.

—The ability to address cross-cutting issues that affect the individual's entire energy industry sub-sector.

—The ability to initiate and be responsible for activities in which the Council will be active.

U.S. Section members will also be selected on the basis of who is best qualified to carry out the anticipated objectives of the Council to:

—Promote increased two-way investment in the energy industry;

—Promote two-way trade in goods and services produced by and used in the energy industry, including the oil and gas, renewable energy, electricity, nuclear energy, and energy efficiency sub-sectors;

—Promote the development of binational value chains in the production of goods and services in the energy sector;

—Promote the development of modern energy infrastructure and bolster energy efficiency and security;

—Foster an enabling environment for the rapid development, deployment, and integration of new energy industry technologies—including clean renewable energy technologies—into the marketplace;

—Improve competitiveness through innovation and entrepreneurship in the energy industry, to include the promotion of technology exchanges and research partnerships; and

—Partner in skills development to create solutions in training and education to address evolving energy industry workforce needs.

To the extent possible, members of the U.S. Section also should represent a cross-section of small, medium-sized and large firms.

U.S. Section members will receive no compensation for their participation in Council-related activities. Individual U.S. Section members will be responsible for all travel and related expenses associated with their participation in the Council, including attendance at Committee and Section meetings. Only appointed U.S. Section members may participate in official Council meetings; substitutes and alternates will not be designated. U.S. Section members are expected to serve for two-year terms, but may be reappointed.

To nominate an eligible individual for membership in the U.S. Section, please submit the following information as instructed in the ADDRESSES and DATES captions above:

—Name(s) and title(s) of the nominated individual(s);

—Name and address of represented entity's headquarters;

—Location of incorporation or establishment; size of the represented entity;

—As applicable, size of the company's export trade, investment, and nature of operations or interest in Mexico;

—And a brief statement of why the candidate should be considered, including information about the candidate's ability to initiate and be responsible for activities in which the Council will be active.

All candidates will be notified of whether they have been selected once the application window closes and selection of U.S. Section members has been made.

Dated: February 18, 2016.
Geri Word,
Director for the Office of North America.

[FR Doc. 2016-03594 Filed 2-22-16; 8:45 am]

BILLING CODE 3510-HE-P